DEPARTMENT OF HEALTH AND HUMAN SERVICES

Food and Drug Administration

21 CFR Part 110

[Docket No. 2004N-0230]

Food; Current Good Manufacturing Practice Regulations; Public Meetings

AGENCY: Food and Drug Administration, HHS.

ACTION: Notice of rescheduling of public meetings.

SUMMARY: The Food and Drug Administration (FDA) previously announced three public meetings intended to obtain comments about FDA's current good manufacturing practice (CGMP) in manufacturing, packing, or holding human food regulations; these comments will be useful in determining appropriate revisions to these regulations. President Bush subsequently issued an Executive order closing all executive departments of the Federal Government on Friday, June 11, 2004, as a mark of respect for former President Ronald Reagan. Accordingly, FDA is announcing the rescheduling of the public meeting planned for June 11, 2004, in College Park, MD. The College Park meeting will be rescheduled to be held on July 19, 2004. FDA is also announcing the cancellation of the public meeting originally scheduled for July 2, 2004, in Monterey, CA. A new date and location for that meeting will be announced in a subsequent notice. The public meeting scheduled for July 21, 2004, in Chicago, IL, will occur as originally planned.

DATES: The rescheduled public meeting will be rescheduled to be held in College Park, MD, on Monday, July 19, 2004, from 9 a.m. to 12 p.m.; the meeting originally scheduled in Monterey, CA, on Friday July 2, 2004, from 1 p.m. to 4 p.m., is now cancelled; and the meeting in Chicago, IL, on Wednesday, July 21, 2004, from 2 p.m. to 5 p.m. will occur as originally scheduled.

ADDRESSES: The public meeting on Monday, July 19, 2004, will be held at the Food and Drug Administration, Center for Food Safety and Applied Nutrition, 5100 Paint Branch Pkwy., College Park, MD. The public meeting on Wednesday, July 21, 2004, will be held at the Marriott Chicago Downtown, 540 North Michigan Ave., Chicago, IL. The location, date, and time of the third public meeting will be announced in a subsequent Federal Register notice.

FOR FURTHER INFORMATION CONTACT: Peter J. Vardon, Center for Food Safety and Applied Nutrition (HFS-726), Food and Drug Administration, 5100 Paint Branch Pkwy., College Park, MD, 301-436-1830 or FAX: 301-436-2626 or e-mail: pvardon@cfsan.fda.gov.

SUPPLEMENTARY INFORMATION: In the Federal Register of May 21, 2004 (69 FR 29220), FDA announced three public meetings intended to obtain comments about FDA's CGMP in manufacturing, packing, or holding human food regulations (21 CFR part 110). FDA believes that these comments may be useful in determining appropriate revisions to the CGMP regulations. The meetings were planned for June 11, 2004, in College Park, MD; July 2, 2004, in Monterey, CA; and July 21, 2004, in Chicago, IL. The notice included information about how to register for a meeting, how to request an opportunity to make oral comments at a meeting, and how to submit written comments. The notice also included a set of questions to help focus oral and written comments to FDA.

On June 6, 2004, President Bush issued an Executive order closing all executive departments of the Federal Government on Friday, June 11, 2004, as a mark of respect for former President Ronald Reagan. Accordingly, the FDA is announcing the rescheduling of the public meeting planned for June 11, 2004, in College Park, MD. The College Park meeting will now be held on July 19, 2004. FDA is also announcing the cancellation of the public meeting originally scheduled for July 2, 2004, in Monterey, CA. A new location, date, and time for that meeting will be announced in a subsequent notice. The public meeting scheduled for July 21, 2004, in Chicago, IL, will occur as originally planned.

For information about registering for a meeting, about requesting an opportunity to make oral comments at a meeting, or about submitting written comments, please refer to the Federal Register notice of May 21, 2004 (69 FR 29220), announcing the meetings.

Dated: June 8, 2004.
Jeffrey Shuren,
Assistant Commissioner for Policy.

[FR Doc. 04-13429 Filed 6-9-04; 1:14 pm]

BILLING CODE 4160-01-S